DEPARTMENT OF COMMERCE

National Oceanic and Atmospheric Administration

Agency Information Collection Activities; Submission to the Office of Management and Budget (OMB) for Review and Approval; Comment Request; Groundfish Tagging Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 20, 2022, during a 60-day comment period. This notice allows for an additional 30 days for public comments.

Agency: National Oceanic and Atmospheric Administration (NOAA), Commerce.

Title: Alaska Groundfish Tagging Program.

OMB Control Number: 0648-0276.

Form Number(s): None.

Type of Request: Regular submission. Extension of a currently approved collection.

Number of Respondents: 440.

Average Hours per Response: 5 minutes for returning a regular tag (groundfish or sablefish simple tag), and 20 minutes for returning an internal archival tag electronically.

Burden Hours: 89.

Needs and Uses: NOAA Fisheries is mandated to assess the health of the populations of commercially important species with the best information possible. Groundfish tagging programs in the northeastern Pacific Ocean and Alaska waters provide essential research data on groundfish life histories and migration patterns that are necessary for successful management. Collecting tag recovery data from the public is essential for the success of this program. Each year, thousands of fish are caught during NOAA Fisheries stock assessment surveys. These fish are weighed and measured, and their sex is determined. Fish that appear healthy and uninjured are tagged before being released back into the wild. Fishermen and seafood processors subsequently find the tagged fish. By returning the tag to NOAA Fisheries, along with information on when and where the fish was caught and the size and weight of the fish, these fishermen and processors provide extremely valuable information to fishery scientists and managers. Tagging groundfish for subsequent tracking and recovery is an important tool for managing fishery resources and the information gathered has resulted in numerous scientific and management publications by NOAA Fisheries personnel.

Affected Public: Not-for-profit institutions; State, local, or tribal government; business or other for-profit organizations.

Frequency: As needed.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0276.

Sheleen Dumas,
Department PRA Clearance Officer, Office of the Chief Information Officer, Commerce Department.

[FR Doc. 2022-08920 Filed 4-26-22; 8:45 am]

BILLING CODE 3510-22-P